DEPARTMENT OF HEALTH AND HUMAN SERVICES

National Institutes of Health

Center for Scientific Review; Amended Notice of Meeting

Notice is hereby given of a change in the meeting of the Oral, Dental and Craniofacial Sciences Study Section, October 26, 2004, 8:30 a.m., to October 27, 2004, 3 p.m., The River Inn, 924 25th Street, NW., Washington, DC 20037, which was published in the Federal Register on October 5, 2004, 69 FR 59602-50603.

The meeting will be held at Comfort Inn—Pentagon, 2480 South Glebe Road, Arlington, VA 22206. The dates and time remain the same. The meeting is closed to the public.

Dated: October 12, 2004.
LaVerne Y. Stringfield,
Director, Office of Federal Advisory Committee Policy.

[FR Doc. 04-23344 Filed 10-18-04; 8:45 am]

BILLING CODE 4140-01-M